DEPARTMENT OF ENERGY

Federal Energy Regulatory Commission

[Docket No. RP00-344-000]

Dominion Transmission, Inc.; Notice of Technical Conference

August 10, 2000.

On June 15, 2000, Dominion transmission, Inc. (formerly CNG Transmission Corporation) (Dominion) filed in compliance with Order No. 637. Several parties have protested various aspects of Dominion's filing. Take notice that the technical conference to discuss the various issues raised by Dominion's filing will be held on Thursday, September 7, 2000, at 10:00 am, in a room to be designated at the offices of the Federal Energy Regulatory Commission, 888 First Street, NE, Washington, D.C. 20426. This technical conference may extend to Friday, September 8, 2000. Parties protesting aspects of Dominion's filing should be prepared to discuss alternatives.

All interested parties and Staff are permitted to attend.

David P. Boergers,
Secretary.

[FR Doc. 00-20758 Filed 8-15-00; 8:45 am]

BILLING CODE 6717-01-M